DEPARTMENT OF ENERGY

Federal Energy Regulatory Commission

[Project No. 2611-068]

Madison Paper Industries; Hydro Kennebec Limited Partnership; Notice of Application for Transfer of License, and Soliciting Comments, Motions To Intervene, and Protests

March 19, 2009.

Take notice that the following hydroelectric application has been filed with the Commission and is available for public inspection:

a. Application Type: Transfer of License.

b. Project No.: 2611-068.

c. Date Filed: February 26, 2009.

d. Applicants: Madison Paper Industries and Hydro Kennebec Limited Partnership (transferors), and Madison Paper Industries (transferee).

e. Name and Location of Project: The Hydro Kennebec Project is located in Kennebec and Somerset Counties, Maine, on the Kennebec River, a navigable waterway of the United States.

f. Filed Pursuant to: Federal Power Act, 16 U.S.C. 791a-825r.

g. Applicant Contacts: For the transferor and transferee: Madison Paper Industries—Ms. Sarah A. Verville, Pierce Atwood LLP, One Monument Square, Portland, ME 04101, (207) 791-1100.

For the transferor: Hydro-Kennebec Limited Partnership—Mr. Mel Jiganti, Esq., Hydro-Kennebec Limited Partnership, c/o Brookfield Renewable Power, 290 Donald Lynch Boulevard, Marlborough, MA 01752, (508) 251-7705.

h. FERC Contact: Patricia W. Gillis at (202) 502-8735.

i. Deadline for Filing Comments, Protests, and Motions to Intervene: April 20, 2009.

All documents (original and eight copies) should be filed with: Kimberly D. Bose, Secretary, Federal Energy Regulatory Commission, 888 First Street, NE., Washington, DC 20426. Comments, protests, and interventions may be filed electronically via the Internet in lieu of paper. See 18 CFR 385.2001(a)(1)(iii) and the instructions on the Commission's Web site under the “e-Filing” link. The Commission strongly encourages electronic filings. Please include the Project Number (P-2611-068) on any comments or motions filed.

The Commission's Rules of Practice and Procedure require all intervenors filing a document with the Commission to serve a copy of that document on each person in the official service list for the project. Further, if an intervenor files comments or documents with the Commission relating to the merits of an issue that may affect the responsibilities of a particular resource agency, they must also serve a copy of the documents on that resource agency.

j. Description of Application: The Applicants seek Commission approval to transfer the license for the Hydro Kennebec Project from Madison Paper Industries and Hydro Kennebec Limited Partnership to Madison Paper Industries only.

k. This filing is available for review at the Commission in the Public Reference Room or may be viewed on the Commission's Web site at http://www.ferc.gov using the “eLibrary” link. Enter the docket number (P-2611) in the docket number field to access the document. For assistance, call toll-free 1-866-208-3676 or e-mail FERCOnlineSupport@ferc.gov. For TTY, call (202) 502-8659. A copy is also available for inspection and reproduction at the addresses in item g above.

l. Individuals desiring to be included on the Commission's mailing list should so indicate by writing to the Secretary of the Commission.

m. Comments, Protests, or Motions To Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

n. Filing and Service of Responsive Documents—Any filings must bear in all capital letters the title “COMMENTS”, “PROTEST”, OR “MOTION TO INTERVENE”, as applicable, and the Project Number of the particular application to which the filing refers. Any of the above-named documents must be filed by providing the original and eight copies to: The Secretary, Federal Energy Regulatory Commission, 888 First Street, NE., Washington, DC 20426. A copy of any motion to intervene must also be served upon each representative of the Applicants specified in the particular application.

o. Agency Comments—Federal, State, and local agencies are invited to file comments on the described application. A copy of the application may be obtained by agencies directly from the Applicants. If an agency does not file comments within the time specified for filing comments, it will be presumed to have no comments. One copy of an agency's comments must also be sent to the Applicants' representatives.

Kimberly D. Bose,
Secretary.

[FR Doc. E9-6696 Filed 3-25-09; 8:45 am]

BILLING CODE